CORPORATION FOR NATIONAL AND COMMUNITY SERVICE

Sunshine Act Meeting Notice

The Board of Directors of the Corporation for National and Community Service gives notice of the following meeting:

DATE AND TIME: Wednesday, June 29, 2011, 11:00 a.m.-12:15 p.m.

PLACE: Corporation for National and Community Service, 1201 New York Avenue, NW., Suite 8312, Washington, DC 20525 (Please go to 10th floor reception area for escort).

CALL-IN INFORMATION: This meeting is available to the public through the following toll-free call-in number: 888-989-5160 conference call access code number 3131856. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 800-873-2094 conference call access code number 8336. The end replay date is July 6, 2011 10:59 PM (CT).

STATUS: Open.

MATTERS TO BE CONSIDERED:

I. Chair's Opening Comments.

II. Consideration of Previous Meeting's Minutes.

III. CEO Report.

IV. Committee Reports:

a. Oversight, Governance and Audit Committee.

b. External Relations Committee.

c. Program, Budget and Evaluation Committee.

V. Public Comments.

Members of the public who would like to comment on the business of the Board may do so in writing or in person. Individuals may submit written comments to esamose@cns.gov subject line: JUNE 2011 CNCS Board Meeting by 12 noon on Monday June 27th. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify Ida Green at igreen@cns.gov or 202-606-6861 by 5 p.m., June 24, 2011.

CONTACT PERSON FOR MORE INFORMATION: Emily Samose, Strategic Advisor for Board Engagement, Corporation for National and Community Service, 1201 New York Avenue NW., Washington, DC 20525. Phone: (202) 606-7564. Fax: (202) 606-3460. TTY: (800) 833-3722. E-mail: esamose@cns.gov.

Dated: June 21, 2011.
Valerie Green,
General Counsel.

[FR Doc. 2011-15986 Filed 6-22-11; 11:15 am]

BILLING CODE 6050-$$-P